DEPARTMENT OF DEFENSE

Office of the Secretary

[Docket ID DOD-2009-OS-0025]

Privacy Act of 1974; Systems of Records

AGENCY: Defense Finance and Accounting Service, DoD.

ACTION: Notice to Amend a System of Records.

SUMMARY: The Defense Finance and Accounting Service (DFAS) is proposing to amend a system of records notice in its inventory of record systems subject to the Privacy Act of 1974 (5 U.S.C. 552a), as amended.

DATES: This proposed action will be effective without further notice on March 25, 2009 unless comments are received which would result in a contrary determination.

ADDRESSES: Send comments to the Defense Finance and Accounting Service, FOIA/PA Program Manager, Corporate Communications and Legislative Liaison, 8899 E. 56th Street, Indianapolis, IN 46249-0150.

FOR FURTHER INFORMATION CONTACT: Ms. Linda Krabbenhoft at (303) 589-3510.

SUPPLEMENTARY INFORMATION: The Defense Finance and Accounting Service systems of notices subject to the Privacy Act of 1974 (5 U.S.C. 552a), as amended, have been published in the Federal Register and are available from the address above.

The specific changes to the records system being amended are set forth below followed by the notice, as amended, published in its entirety. The proposed amendment is not within the purview of subsection (r) of the Privacy Act of 1974 (5 U.S.C. 552a), as amended, which requires the submission of a new or altered system report.

Dated: February 17, 2009.
Patricia L. Toppings,
OSD Federal Register Liaison Officer, Department of Defense.

T5015b

SYSTEM NAME:

Privacy Act Request Files (September 16, 1998, 63 FR 49554).

CHANGES:

* * * * *

SYSTEM LOCATIONS:

Delete entry and replace with “Defense Finance and Accounting Service, Indianapolis, 8899 E. 56th Street, Indianapolis, IN 46249-0150.

Defense Finance and Accounting Service, Cleveland, 1240 East Ninth Street, Cleveland, OH 44199-2055.

Defense Finance and Accounting Service, Columbus, 3990 East Broad Street, Building #21, Columbus, OH 43213-1152.”

* * * * *

CATEGORIES OF RECORDS IN THE SYSTEM:

Delete entry and replace with “Full name, Social Security Number (SSN), address, telephone number, letters, memoranda, legal opinions, messages, and miscellaneous documents relating to an individual's request for access to, or amendment of, records concerning that person, including letters of denial, appeals, statements of disagreements, and related documents accumulated in processing requests received under the Privacy Act of 1974.”

AUTHORITY FOR MAINTENANCE OF THE SYSTEM:

Delete entry and replace with “5 U.S.C. 301, Departmental Regulations; 5 U.S.C. 552a, The Privacy Act of 1974, as amended, as implemented by DFAS Regulation; DoD 5400.11-R, Privacy Program; and E.O. 9397 (SSN).”

* * * * *

ROUTINE USES OF RECORDS MAINTAINED IN THE SYSTEM, INCLUDING CATEGORIES OF USERS AND THE PURPOSE OF SUCH USES:

Delete entry and replace with “In addition to those disclosures generally permitted under 5 U.S.C. 552a(b) of the Privacy Act, these records or information contained therein may specifically be disclosed outside the DoD as a routine use pursuant to 5 U.S.C. 552a(b)(3) as follows:

Information from this system may be provided to other Federal, state, and local agencies when it is necessary to coordinate responses or denials.

The ‘DoD Blanket Routine Uses' published at the beginning of the DFAS compilation of systems of records notices apply to this system.”

* * * * *

STORAGE:

Delete entry and replace with “Paper file folders and on electronic storage media.”

* * * * *

SAFEGUARDS:

Delete entry and replace with “Records are maintained in a controlled facility. Physical entry is restricted by the use of locks, guards, and is accessible only to authorized personnel. Access to records is limited to person(s) responsible for servicing the record in performance of their official duties and who are properly screened and cleared for need-to-know. Access to computerized data is restricted by passwords, which are changed periodically.”

RETENTION AND DISPOSAL:

Delete entry and replace with “Official Privacy Act requests are kept a minimum of 2 years; requests denied but not appealed are destroyed after 5 years; requests for access or amendment and appeals or denial are destroyed 4 years after final action or 3 years after adjudication by the courts, whichever is later; control logs of accounting of disclosures are kept 5 years or in accordance with the approved disposition instructions for the related subject records, whichever is later. Records are destroyed by shredding, pulping, burning or degaussing.”

SYSTEM MANAGER(S) AND ADDRESS:

Delete entry and replace with “Defense Finance and Accounting Service, Corporate Communications and Legislative Liaison, Freedom of Information Act/Privacy Act Program Manager, 8899 E. 56th Street, Indianapolis, IN 46249-0150.”

NOTIFICATION PROCEDURE:

Delete entry and replace with “Individuals seeking to determine whether information about themselves is contained in this system of records should address written inquiries to the Defense Finance and Accounting Service, Corporate Communications and Legislative Liaison, 8899 E. 56th Street, Indianapolis, IN 46249-1050.

Individual should furnish full name, Social Security Number, current address, and telephone number.”

RECORD ACCESS PROCEDURES:

Delete entry and replace with “Individuals seeking access to information about themselves contained in this system of records should address written inquiries to the Defense Finance and Accounting Service, Corporate Communications and Legislative Liaison, 8899 E. 56th Street, Indianapolis, IN 46249-1050.

Individual should furnish full name, Social Security Number, current address, and telephone number.”

CONTESTING RECORD PROCEDURES:

Delete entry and replace with “The DFAS rules for accessing records, for contesting contents and appealing initial agency determinations are published in DFAS Regulation 5400.11-R; 32 CFR part 324; or may be obtained from the Freedom of Information/Privacy Act Program Manager, Corporate Communications and Legislative Liaison, 8899 E. 56th Street, Indianapolis, IN 46249-1050.”

RECORDS SOURCE CATEGORIES:

Delete entry and replace with “Records are obtained from the individual requester, DFAS Components, such as, Army, Navy, Air Force, and Marine Corps, and other Federal, state, and local governments, as applicable or appropriate, for processing the case.”

* * * * *

T5015b

SYSTEM NAME:

Privacy Act Request Files.

SYSTEM LOCATION:

Defense Finance and Accounting Service, Indianapolis, 8899 E. 56th Street, Indianapolis, IN 46249-0150.

Defense Finance and Accounting Service, Cleveland, 1240 East Ninth Street, Cleveland, OH 44199-2055.

Defense Finance and Accounting Service, Columbus, 3990 East Broad Street, Building #21, Columbus, OH 43213-1152.

CATEGORIES OF INDIVIDUALS COVERED BY THE SYSTEM:

All persons who request access to, information from, or amendment of records about themselves maintained by the Defense Finance and Accounting Service under the provisions of the Privacy Act of 1974 (5 U.S.C. 552a), as amended.

CATEGORIES OF RECORDS IN THE SYSTEM:

Full name, Social Security Number (SSN), address, telephone number, letters, memoranda, legal opinions, messages, and miscellaneous documents relating to an individual's request for access to, or amendment of, records concerning that person, including letters of denial, appeals, statements of disagreements, and related documents accumulated in processing requests received under the Privacy Act of 1974.

AUTHORITY FOR MAINTENANCE OF THE SYSTEM:

5 U.S.C. 301, Departmental Regulations; 5 U.S.C. 552a, The Privacy Act of 1974, as amended, as implemented by DFAS Regulation; DoD 5400.11-R, Privacy Program; and E.O. 9397 (SSN).

PURPOSE(S):

To record, process, and coordinate individual requests for access to, or amendment of personal records, and appeals on denials of requests for access or amendment to personal records.

Routine uses of records maintained in the system, including categories of users and the purposes of such uses:

In addition to those disclosures generally permitted under 5 U.S.C. 552a(b) of the Privacy Act, these records or information contained therein may specifically be disclosed outside the DoD as a routine use pursuant to 5 U.S.C. 552a(b)(3) as follows:

Information from this system may be provided to other Federal, state, and local agencies when it is necessary to coordinate responses or denials.

The “DoD Blanket Routine Uses” published at the beginning of the DFAS compilation of systems of records notices apply to this system.

POLICIES AND PRACTICES FOR STORING, RETRIEVING, ACCESSING, RETAINING, AND DISPOSING OF RECORDS IN THE SYSTEM:

STORAGE:

Paper file folders and on electronic storage media.

RETRIEVABILITY:

Retrieved by name and Social Security Number.

SAFEGUARDS:

Records are maintained in a controlled facility. Physical entry is restricted by the use of locks, guards, and is accessible only to authorized personnel. Access to records is limited to person(s) responsible for servicing the record in performance of their official duties and who are properly screened and cleared for need-to-know. Access to computerized data is restricted by passwords, which are changed periodically.

RETENTION AND DISPOSAL:

Official Privacy Act requests are kept a minimum of 2 years; requests denied but not appealed are destroyed after 5 years; requests for access or amendment and appeals or denial are destroyed 4 years after final action or 3 years after adjudication by the courts, whichever is later; control logs of accounting of disclosures are kept 5 years or in accordance with the approved disposition instructions for the related subject records, whichever is later. Records are destroyed by shredding, pulping, burning or degaussing.

SYSTEM MANAGER(S) AND ADDRESS:

Defense Finance and Accounting Service, Corporate Communications and Legislative Liaison, Freedom of Information Act/Privacy Act Program Manager, 8899 E. 56th Street, Indianapolis, IN 46249-0150.

NOTIFICATION PROCEDURE:

Individuals seeking to determine whether information about themselves is contained in this system of records should address written inquiries to the Defense Finance and Accounting Service, Corporate Communications and Legislative Liaison, 8899 E. 56th Street, Indianapolis, IN 46249-1050.

Individual should furnish full name, Social Security Number, current address, and telephone number.

RECORD ACCESS PROCEDURES:

Individuals seeking access to information about themselves contained in this system of records should address written inquiries to the Defense Finance and Accounting Service, Corporate Communications and Legislative Liaison, 8899 E. 56th Street, Indianapolis, IN 46249-1050.

Individual should furnish full name, Social Security Number, current address, and telephone number.

CONTESTING RECORD PROCEDURES:

The DFAS rules for accessing records, for contesting contents and appealing initial agency determinations are published in DFAS Regulation; DoD 5400.11-R; 32 CFR part 324; or may be obtained from the Freedom of Information/Privacy Act Program Manager, Corporate Communications and Legislative Liaison, 8899 E. 56th Street, Indianapolis, IN 46249-1050.

RECORD SOURCE CATEGORIES:

Records are obtained from the individual requester, DFAS Components, such as, Army, Navy, Air Force, and Marine Corps, and other Federal, state, and local governments, as applicable or appropriate, for processing the case.

EXEMPTIONS CLAIMED FOR THE SYSTEM:

None.

[FR Doc. E9-3699 Filed 2-20-09; 8:45 am]

BILLING CODE 5001-06-P